DEPARTMENT OF THE INTERIOR

Fish and Wildlife Service

Preparation of an Environmental Impact Report/Statement for the South Subregion Natural Community Conservation Plan/Habitat Conservation Plan, County of Orange, California

AGENCY: Fish and Wildlife Service, Interior.

ACTION: Notice of intent.

SUMMARY: Pursuant to the National Environmental Policy Act, the Fish and Wildlife Service (Service) advises the public that we intend to gather information necessary to prepare, in coordination with the County of Orange, California (County), a joint programmatic Environmental Impact Report/Environmental Impact Statement (EIR/EIS) on the South Subregion Natural Community Conservation Plan/Habitat Conservation Plan (NCCP/HCP) proposed by the County. The County and possibly other jurisdictions intend to request Endangered Species Act permits for federally listed threatened or endangered species and for unlisted species that may become listed during the term of the permit. The permit is needed to authorize take of listed species (including harm, injury and harassment) during urban development in the approximately 200 square-mile study area in southern Orange County. The proposed NCCP/HCP would identify those actions necessary to maintain the viability of South Subregion coastal sage scrub habitat for the federally threatened coastal California gnatcatcher (Polioptila californica californica), and other species and major habitat types identified for inclusion and management during the preparation of the NCCP/HCP.

The Service is furnishing this notice to: (1) Advise other Federal and State agencies, affected Tribes, and the public of our intentions; (2) announce the initiation of a 30-day public scoping period, and (3) obtain suggestions and information on the scope of issues to be included in the EIR/EIS.

DATES: We will accept written comments on or before September 24, 2001.

ADDRESSES: Send comments to Mr. James Bartel, Field Supervisor, U.S. Fish and Wildlife Service, Carlsbad Field Office, 3720 Loker Avenue West, Carlsbad, CA 92008; facsimile (760) 431-9618.

FOR FURTHER INFORMATION CONTACT: Ms. Karen Evans, Supervisory Fish and Wildlife Biologist, (see ADDRESSES); telephone (760) 431-9440.

SUPPLEMENTARY INFORMATION:

Background

Section 9 of the Endangered Species Act of 1973, as amended, and Federal regulation prohibit the “taking” of a species listed as endangered or threatened. The term “take” means to harass, harm, pursue, hunt, shoot, wound, kill, capture or collect listed wildlife, or attempt to engage in such conduct. Harm includes habitat modification that kills or injures wildlife by significantly impairing essential behavioral patterns, including breeding, feeding, or sheltering. Under limited circumstances, the Service may issue permits for take of listed species that is incidental to, and not the purpose of, otherwise lawful activities. Regulations governing permits for threatened and endangered species are found in 50 CFR 17.32 and 50 CFR 17.22.

If the Service approves the NCCP/HCP, we may authorize incidental take of the California gnatcatcher and other identified federally listed species through issuance of Endangered Species Act incidental take permits. The NCCP/HCP, coupled with an Implementation Agreement, could also form the basis for issuing incidental take permits for other identified non-listed species should these identified species be listed during the term of the permit.

On March 25, 1993, the Service issued a Final Rule declaring the California gnatcatcher to be a threatened species (508 FR 16742). The Final Rule was followed by a special rule on December 10, 1993 (50 FR 65088) to allow take of the California gnatcatcher pursuant to section 4(d) of the Act. The special rule defined the conditions under which take of the coastal California gnatcatcher and other federally-listed species, resulting from specified land use activities regulated by state and local government, would not violate section 9 of the Act. In the special rule the Service recognized the significant efforts undertaken by the State of California through the Natural Community Conservation Planning Act of 1991 and encouraged holistic management of listed species, like the coastal California gnatcatcher, and other sensitive species. The Service declared its intent to permit incidental take of the California gnatcatcher associated with land use activities covered by an approved subregional NCCP prepared under the NCCP Program, provided the Service determines that the subregional NCCP meets the issuance criteria of an incidental take permit pursuant to section 10(a)(1) (B) of the Act and 50 CFR 17.32(b)(2). The County currently intends to obtain the Service's approval of the NCCP/HCP through a section 10(a)(1)(B) permit.

Proposed Action

The Service will prepare a joint EIR/EIS with the County of Orange, lead agency for the NCCP/HCP. The County will prepare an EIR in accordance with the California Environmental Quality Act. The County will publish a separate Notice of Preparation for the EIR.

The South Subregional NCCP/HCP study area covers more than 200 square miles in the southern and eastern portions of Orange County. This NCCP subregion is bounded on the east by the San Diego County line and on the north by Riverside County line. Along the west, the study area boundaries follow San Juan Creek inland to the Interstate 5 (I-5) overcrossing, then northwest along I-5 to El Toro Road, and north along El Toro Road to the intersection of Live Oak Canyon Road and northeasterly on a straight line from that intersection to the northern apex of the County boundary. The subregion is bounded on the south by the Pacific Ocean.

The NCCP/HCP will describe strategies to conserve coastal sage scrub and other major upland and aquatic habitat types identified for inclusion and management, while allowing incidental take of endangered and threatened species associated with development. Development may include residential, commercial, industrial, and recreational development; public infrastructure such as roads and utilities; and maintenance of public facilities.

Preliminary Alternatives

The EIR/EIS for the South Subregion NCCP/HCP will assist the Service during its decision making process by enabling us to analyze the environmental consequences of the proposed action and a full array of alternatives identified during preparation of the NCCP/HCP. Although specific programmatic alternatives have not been prepared for public discussion, the range of alternatives preliminarily identified for consideration include:

Alternative 1, No Project/No Development Alternative

No land development and no NCCP/HCP directly impacting listed species. Conservation would rely on existing or future amended General Plans, growth management programs and habitat management efforts, and continuing project-by-project review and permitting pursuant to the National Environmental Policy Act and Sections 7 and 10 of the Endangered Species Act.

Alternative 3, NCCP/HCP Alternative Based on Orange County Projections (OCP) 2000

Land uses projected by the County's OCP 2000 for Rancho Mission Viejo Lands would be considered for implementation under a Subregional NCCP/HCP approach designed to comply with the requirements of section 10(a) of the Endangered Species Act by assuring long-term value of coastal sage scrub and other major habitat types on a subregional level through the following measures:

(1) Permanently set aside coastal sage scrub and other major habitats consistent with Scientific Review Panel Reserve Design Criteria (1993).

(2) Address habitat needs of coastal sage scrub species and of other species that use major habitat types specifically identified for inclusion and management within the NCCP Reserve.

(3) Maintain and enhance habitat connectivity within the subregion and between adjacent subregions.

(4) Provide for adaptive habitat management within the NCCP Reserve, including, habitat restoration and enhancement.

Alternative 4, NCCP/HCP Alternative Based on Other Land Use Scenarios

Formulation of alternative subregional conservation plans and habitat reserve configurations designed to comply with the requirements of Section 10(a) by assuring the long-term value of coastal sage scrub and other major habitat types on a subregional level through the same four general measures listed under Alternative 3.

Other Governmental Actions

The NCCP/HCP is being prepared concurrently and coordinated with the joint preparation by the U.S. Army Corps of Engineers and CDFG of a Special Area Management Plan (SAMP) and Master Streambed Alteration Agreement (MSAA) for the San Juan Creek and western San Mateo Creek watersheds. These watersheds cover most of the South NCCP Subregion. In addition to the concurrent SAMP/MSAA process, the County and Rancho Mission Viejo, the owner of the largest undeveloped property in the subregion, will be proceeding with consideration of amendments to the County General Plan and Zoning Code for that portion of the subregion owned by Rancho Mission Viejo. The SAMP/MSAA will involve the preparation of a concurrent joint programmatic EIR/EIS and the General Plan/Zoning amendment programs will involve the preparation of an EIR that will distributed for review during the NCCP/HCP public planning process. The County of Orange will prepare and publish a separate Notice of Preparation for the General Plan Amendment and Zone Change EIR.

Service Scoping

We invite comments from all interested parties to ensure that the full range of issues related to the permit requests are addressed and that all significant issues are identified. We will conduct environmental review of the permit applications in accordance with the requirements of the National Environmental Policy Act of 1969 as amended (42 U.S.C. 4321 et seq.), its implementing regulations (40 CFR parts 1500 through 1508), and with other appropriate Federal laws and regulations, policies, and procedures of the Service for compliance with those regulations. We expect a draft EIR/EIS for the South Subregion NCCP/HCP to be available for public review in Fall 2002.

Dated: August 16, 2001.
Mary Ellen Mueller,
Acting Deputy Manager, California/Nevada Operations Office, Fish and Wildlife Service, Sacramento, California.

[FR Doc. 01-21272 Filed 8-22-01; 8:45 am]

BILLING CODE 4310-55-P